DEPARTMENT OF THE INTERIOR

National Park Service

[NPS-WASO-NAGPRA-16402; PPWOCRADN0-PCU00RP14.R50000]

Notice of Inventory Completion: U.S. Department of Defense, Army, National Museum of Health and Medicine, Silver Spring, MD

AGENCY: National Park Service, Interior.

ACTION: Notice.

SUMMARY: The National Museum of Health and Medicine has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the National Museum of Health and Medicine. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the National Museum of Health and Medicine at the address in this notice by October 10, 2014.

ADDRESSES: Dr Franklin E. Damann, National Museum of Health and Medicine, 2460 Linden Lane, Building 2500, Silver Spring, MD 20910, telephone (301) 319-3306, email franklin.e.damann2.civ@mail.mil.

SUPPLEMENTARY INFORMATION: Notice is here given in accordance with the Native American Graves Protection and Repatriation Act (NAGPRA), 25 U.S.C. 3003, of the completion of an inventory of human remains under the control of the National Museum of Health and Medicine, Silver Spring, MD. The human remains were removed from Amaknak Island, Captain's Bay, Unalaska, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the National Museum of Health and Medicine professional staff in consultation with representatives of the Qawalangin Tribe of Unalaska.

History and Description of the Remains

A single human skeleton was collected in 1872 by W.H. Dall on behalf of the Smithsonian Institution. The human remains were found in a compartment of what had been a large community house on Amaknak Island, Captain's Bay, Unalaska, AK.

The human remains were received at the Army Medical Museum (AMM) from the U.S. National Museum Smithsonian Institution on November 15, 1872, and accessioned into the AMM as PS 12937 on November 21, 1872.

On August 24, 1904 by order of the AMM Curator James Carroll, the human remains were returned to the U.S. National Museum, Smithsonian Institution, except for the pathological portions of the skeleton. These portions remain to this day as PS 12937 at the National Museum of Health and Medicine (NMHM), formally known as the AMM.

Accession documents relating to the collection history of these human remains were retained by the Smithsonian. Through a recent review of records in consultation with the Smithsonian Institution Repatriation Office, provenance for these remains has been reassociated. No known individuals were identified. No associated funerary objects are present.

The human remains consist of the spine, hips, and ribs. The remains show ankylosing spondylitis, kyphosis, and fusion of the interpubic joint. Morphological characteristics of the hips indicate male sex. The remains are those of an adult.

Accession file information indicates that the individual is an Aleut male approximately 40 years of age from Amaknak Island, Captain's Bay, Unalaska. Evidence of a male with ankylosing spondylitis and kyphosis is consistent with the biological and pathological description in the accession file documents.

Determinations Made by the National Museum of Health and Medicine

Officials of the National Museum of Health and Medicine have determined that:

• Pursuant to 25 U.S.C. 3001(9), the human remains described in this notice represent the physical remains of one individual of Native American ancestry.

• Pursuant to 25 U.S.C. 3001(2), there is a relationship of shared group identity that can be reasonably traced between the Native American human remains and the Qawalangin Tribe of Unalaska.

Additional Requestors and Disposition

Lineal descendants or representatives of any Indian tribe or Native Hawaiian organization not identified in this notice that wish to request transfer of control of these human remains should submit a written request with information in support of the request to Dr Franklin E. Damann, National Museum of Health and Medicine, 2460 Linden Lane, Building 2500, Silver Spring, MD 20910, telephone (301) 319-3306, email franklin.e.damann2.civ@mail.mil, by October 10, 2014. After that date, if no additional requestors have come forward, transfer of control of the human remains to the Qawalangin Tribe of Unalaska may proceed.

The National Museum of Health and Medicine is responsible for notifying the Qawalangin Tribe of Unalaska that this notice has been published.

Dated: August 1, 2014.
Melanie O'Brien,
Acting Manager, National NAGPRA Program.

[FR Doc. 2014-21518 Filed 9-9-14; 8:45 am]

BILLING CODE 4312-50-P